ENVIRONMENTAL PROTECTION AGENCY

40 CFR Parts 52 and 81

[Docket EPA-R10-OAR-2009-0340; FRL-9794-1]

Approval and Promulgation of Air Quality Implementation Plans; Alaska: Mendenhall Valley PM10 Nonattainment Area Limited Maintenance Plan and Redesignation Request

AGENCY: Environmental Protection Agency (EPA).

ACTION: Proposed rule.

SUMMARY: The EPA is proposing to approve the Limited Maintenance Plan (LMP) for particulate matter with an aerodynamic diameter less than or equal to a nominal 10 micrometers (PM10) submitted by the State of Alaska on May 8, 2009 for the Mendenhall Valley nonattainment area (Mendenhall Valley NAA), and the State's request to redesignate the area to attainment for the National Ambient Air Quality Standards (NAAQS).

DATES: Comments must be received on or before June 10, 2013.

ADDRESSES: Submit your comments, identified by Docket ID No. EPA-R10-OAR-2009-0340, by any of the following methods:

• www.regulations.gov: Follow the on-line instructions for submitting comments.

• Email: R10-Public_Comments@epa.gov

• Mail: Mr. Keith Rose, U.S. EPA Region 10, Office of Air, Waste and Toxics, AWT-107, 1200 Sixth Avenue, Suite 900, Seattle WA, 98101

• Hand Delivery/Courier: U.S. EPA Region 10, 1200 Sixth Avenue, Suite 900, Seattle WA, 98101. Attention: Keith Rose, Office of Air, Waste and Toxics, AWT-107. Such deliveries are only accepted during normal hours of operation, and special arrangements should be made for deliveries of boxed information.

Please see the direct final rule which is located in the Rules section of this Federal Register for detailed instructions on how to submit comments.

FOR FURTHER INFORMATION CONTACT: Keith Rose at telephone number: (206) 553-1949, email address: rose.keith@epa.gov, or the above EPA, Region 10 address.

SUPPLEMENTARY INFORMATION: For further information, please see the direct final action, of the same title, which is located in the Rules section of this Federal Register. The EPA is approving the State's SIP revision as a direct final rule without prior proposal because the EPA views this as a noncontroversial SIP revision and anticipates no adverse comments. A detailed rationale for the approval is set forth in the preamble to the direct final rule. If the EPA receives no adverse comments, the EPA will not take further action on this proposed rule.

If the EPA receives adverse comments, the EPA will withdraw the direct final rule and it will not take effect. The EPA will address all public comments in a subsequent final rule based on this proposed rule. The EPA will not institute a second comment period on this action. Any parties interested in commenting on this action should do so at this time. Please note that if we receive adverse comment on an amendment, paragraph, or section of this rule and if that provision may be severed from the remainder of the rule, the EPA may adopt as final those provisions of the rule that are not the subject of an adverse comment.

Dated: March 12, 2013.
Dennis J. McLerran,
Regional Administrator, Region 10.

[FR Doc. 2013-10938 Filed 5-8-13; 8:45 am]

BILLING CODE 6560-50-P